BUREAU OF CONSUMER FINANCIAL PROTECTION

[Docket No: CFPB-2013-0015]

Agency Information Collection Activities: Submission for OMB Review; Comment Request

AGENCY: Bureau of Consumer Financial Protection.

ACTION: Notice and request for comment.

SUMMARY: In accordance with the Paperwork Reduction Act of 1995 (PRA), the Consumer Financial Protection Bureau (Bureau) is proposing a new information collection, titled, “Policy to Encourage Trial Disclosure Programs: Information Collection.”

DATES: Written comments are encouraged and must be received on or before July 18, 2013 to be assured of consideration.

ADDRESSES: You may submit comments, identified by the title of the information collection, OMB Control Number (see below), and docket number (see above), by any of the following methods:

• Electronic: http://www.regulations.gov. Follow the instructions for submitting comments.

• Mail/Hand Delivery/Courier: Consumer Financial Protection Bureau (Attention: PRA Office), 1700 G Street NW., Washington, DC 20552.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.reginfo.gov. Requests for additional information should be directed to the Consumer Financial Protection Bureau, (Attention: PRA Office), 1700 G Street NW., Washington, DC 20552, (202) 435-9575, or email: CFPB_Public_PRA@cfpb.gov. Please do not submit comments to this email box.

SUPPLEMENTARY INFORMATION: Title: Policy to Encourage Trial Disclosure Programs: Information Collection.

OMB Control Number: 3170-XXXX.

Type of Review: New collection; request for new OMB control number.

Affected Public: Private Sector (Certain businesses offering consumer financial services or products that meet the definition of “covered person” under Section 1002(6) of the Dodd-Frank Act, as well as third-parties, such as trade associations, that may coordinate the submission of information by covered persons).

Estimated Number of Annual Responses: 10.

Estimated Total Annual Burden Hours: 100.

Abstract: In subsection 1032(e) of the Dodd-Frank Act, 12 U.S.C. 5532(e), Congress gave the Bureau authority to provide certain legal protections to companies to conduct trial disclosure programs. This authority can be used to help further the Bureau's statutory objective, stated in subsection 1021(b)(5) of the Act, to “facilitate access and innovation” in the “markets for consumer financial products and services.”

Request for Comments: The Bureau issued a 60-day Federal Register notice on December 17, 2012, 77 FR 74625. Comments were solicited and continue to be invited on: (a) Whether the collection of information is necessary for the proper performance of the functions of the Bureau, including whether the information shall have practical utility; (b) the accuracy of the Bureau's estimate of the burden of the collection of information, including the validity of the methodology and the assumptions used; (c) ways to enhance the quality, utility, and clarity of the information to be collected; and (d) ways to minimize the burden of the collection of information on respondents, including through the use of automated, electronic, mechanical, or other technological collection techniques or other forms of information technology.

Dated: June 13, 2013.
Matthew Burton,
Acting Chief Information Officer, Bureau of Consumer Financial Protection.

[FR Doc. 2013-14488 Filed 6-17-13; 8:45 am]

BILLING CODE 4810-AM-P